DEPARTMENT OF TRANSPORTATION

Federal Aviation Administration

Notice of Intent To Rule on Request To Release Airport Property Release at the Mobile Regional Airport, Mobile, Alabama

AGENCY: Federal Aviation Administration, DOT.

ACTION: Notice of intent to rule on land release request.

SUMMARY: The FAA is considering a request from the Mobile Airport Authority to release 5.38± acres of non-aeronautical airport property located at the Mobile Regional Airport in Mobile, Alabama, to be sold to the County of Mobile.

DATES: Comments must be received on or before June 22, 2017.

ADDRESSES: Comments on this notice may be mailed or delivered in triplicate to the FAA to the following address: Jackson Airports District Office, Attn: Kevin Morgan, Program Manager, 100 West Cross Street, Suite B, Jackson, MS 39208-2307.

In addition, one copy of any comments submitted to the FAA must be mailed or delivered to Jennifer F. Shearer, C.M., Director of Aviation, P.O. Box 88004, 8400 Airport Blvd., Mobile, AL 36608-0004.

FOR FURTHER INFORMATION CONTACT: Kevin Morgan, Program Manager, Jackson Airports District Office, 100 West Cross Street, Suite B, Jackson, MS 39208-2307, (601) 664-9891. The land release request may be reviewed in person at this same location.

SUPPLEMENTARY INFORMATION: The FAA is reviewing a request by Mobile Airport Authority to release 5.38 acres of property at the Mobile Regional Airport under the provisions of Title 49, U.S.C. Section 47107(h). The property will be purchased by County of Mobile for right-of-way acquisition project to widen Tanner Williams Road. The property is adjacent to Tanner Williams Road on the northwest portion of airport property consisting of seventeen different partial parcels totaling 5.38 acres. The net proceeds from the sale of this property will be used for eligible airport improvement projects at the Mobile Regional Airport.

Any person may inspect the request in person at the FAA office listed above under FOR FURTHER INFORMATION CONTACT.

In addition, any person may, upon request, inspect the request, notice and other documents germane to the request in person at the Mobile Regional Airport (MOB).

Issued in Jackson, Mississippi on May 16, 2017.
Rans D. Black,
Manager, Jackson Airports District Office, Southern Region.

[FR Doc. 2017-10561 Filed 5-22-17; 8:45 am]

BILLING CODE 4910-13-P